DEPARTMENT OF TRANSPORTATION

Federal Railroad Administration

[Docket Number FRA-2016-0072]

Petition for Waiver of Compliance

In accordance with part 211 of Title 49 Code of Federal Regulations (CFR), this document provides the public notice that by a document dated July 20, 2016, Nevada Northern Railway (NNR) has petitioned the Federal Railroad Administration (FRA) for a waiver of compliance from certain provisions of the Federal railroad safety regulations contained at Title 49 Code of Federal Regulations Part 230-Steam Locomotive Inspection and Maintenance Standards. FRA assigned the petition Docket Number FRA-2016-0072. NNR is a museum that operates a railroad and locomotive shop registered as National Historic Landmarks. NNR maintains and operates Number 93, a 2-8-0 “Consolidation” type of steam locomotive built by the American Locomotive Works in 1909.

NNR requests relief from performing the 1,472 service day inspection (SDI), for Number 93, as it pertains to the inspection of the boiler every 15 calendar years or 1,472 service days. This is required under 49 CFR 230.17-Railroad Operating Rules-One thousand four hundred seventy-two (1,472) service day inspection. NNR is requesting an additional 365 calendar days and not more than 100 service days before performing a 1,472 SDI. The previous SDI was performed on October 20, 2001, and granting this relief will allow Number 93 an SDI period of 16 calendar years while not exceeding 1,472 service days.

NRR currently has two operating steam locomotives: Number 93 and Number 40, a 4-6-0 “Ten Wheeler” type of steam locomotive built by the Baldwin Locomotive Works in 1910. NRR is rebuilding No. 81, a 2-8-0 “Consolidation” type of steam locomotive built by the Baldwin Locomotive Works in 1917. NNR's justification for requesting relief is to ensure that two operating locomotives will be available at all times to provide motive power for the tourist operation. Number 93 will be removed from service for the 1,472 SDI when Number 81 enters service by October 20, 2017.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by October 14, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also https://www.regulations.gov/privacyNotice for the privacy notice of regulations.gov.

Issued in Washington, DC, on August 25, 2016.
John Karl Alexy,
Director, Office of Safety Analysis.

[FR Doc. 2016-20846 Filed 8-29-16; 8:45 am]

BILLING CODE 4910-06-P